FEDERAL COMMUNICATIONS COMMISSION

47 CFR Parts 1, 6, 7, and 8

[CG Docket No. 10-213; WT Docket No. 96-198; CG Docket No. 10-145; DA 11-595]

Implementing the Provisions of the Communications Act of 1934, as Enacted by the Twenty-First Century Communications and Video Accessibility Act of 2010

AGENCY: Federal Communications Commission.

ACTION: Notice of proposed rulemaking; extension of comment period.

SUMMARY: In this document, the Commission extends the comment and reply comment period deadlines. This action is taken in order to provide a limited extension to serve the public interest by allowing parties additional time to fully and carefully analyze the Notice of Proposed Rulemaking proposing to adopt rules that implement provisions in section 104 of the “Twenty-first Century Communications and Video Accessibility Act of 2010.”

DATES: Submit comments on or before April 25, 2011. Submit reply comments on or before May 23, 2011.

ADDRESSES: Federal Communications Commission, 445 12th Street, SW., Washington, DC 20554. You may submit comments, identified by DA 11-595, or by CG Docket No. 10-213, WT Docket No. 96-198, CG Docket No. 10-145, by any of the following methods:

• Federal eRulemaking Portal: http://www.regulations.gov. Follow the instructions for submitting comments.

• Federal Communications Commission's Web Site: http://www.fcc.gov/cgb/ecfs/. Follow the instructions for submitting comments.

• People with Disabilities: Contact the FCC to request reasonable accommodations (accessible format documents, sign language interpreters, CART, etc.) by e-mail: FCC504@fcc.gov or phone: (202) 418-0530 or TTY: (202) 418-0432.

FOR FURTHER INFORMATION CONTACT: Jeffrey Tignor, Broadband Division, Wireless Telecommunications Bureau, FCC at (202) 418-0774 or via the Internet to Jeffrey.Tignor@fcc.gov or Rosaline Crawford, Disability Rights Office, Consumer and Governmental Affairs Bureau, FCC at (202) 418-2075 or via the Internet to Rosaline.Crawford@fcc.gov.

SUPPLEMENTARY INFORMATION: This is a summary of an Order, DA 11-595, adopted and released by the FCC on April 4, 2011, in CG Docket No. 10-213; WT Docket No. 96-198; CG Docket No. 10-145; FCC 11-37. The full text of this document is available for inspection and copying during normal business hours in the FCC Reference Information Center, Room CY-A257, 445 12th Street, SW., Washington, DC 20554. The complete text may be purchased from the Commission's duplicating contractor, Best Copy and Printing, Inc. (BCPI), Portals II, 445 12th Street, SW., Room CY-B402, Washington, DC 20554, (202) 488-5300, facsimile (202) 488-5563, or via e-mail at fcc@bcpiweb.com. The complete text is also available on the Commission's Web site at http://wireless.fcc.gov/edocs—public/attachment/DA 11-595A1doc. This full text may also be downloaded at: http://wireless.fcc.gov/releases.html. Alternative formats (computer diskette, large print, audio cassette, and Braille) are available by contacting Brian Millin at (202) 418-7426, TTY (202) 418-7365, or via e-mail to bmillin@fcc.gov.

Summary

This Order extends the deadlines for filing comments and reply comments concerning the Commission's Notice of Proposed Rulemaking proposing to adopt rules that implement provisions in Section 104 of the “Twenty-First Century Communications and Video Accessibility Act of 2010” (hereinafter referred to as the “CVAA”). See Implementation of Sections 716 and 717 of the Communications Act of 1934, as Enacted by the Twenty-First Century Communications and Video Accessibility Act of 2010, CG Docket No. 10-213, Amendments to the Commission's Rules Implementing Sections 255 and 251(a)(2) of the Communications Act of 1934, as Enacted by the Telecommunications Act of 1996, WT Docket No. 96-198, Accessible Mobile Phone Options for People who are Blind, Deaf-Blind, or Have Low Vision, CG Docket No. 10-145, Notice of Proposed Rulemaking, FCC 11-37 (March 3, 2011), as published in the Federal Register at 76 FR 13800 (March 14, 2011).

2. On April 1, 2011, the American Foundation for the Blind, Consumer Electronics Association, Information Technology Industry Council, and Telecommunications Industry Association filed a request with Joel Gurin, Chief of the Consumer & Governmental Affairs Bureau, and Ruth Milkman, Chief of the Wireless Telecommunications Bureau, for a thirty day extension of the time period to file comments in this rulemaking. The parties stated that the extension was needed to ensure that “stakeholders have adequate time to fully and carefully analyze the Commission's proposed rules” and develop comprehensive recommendations. See Letter from Paul W. Schroeder, American Foundation for the Blind, Julie Kearney, Consumer Electronics Association, John Neuffer, Information Technology Industry Council, and Danielle Coffey, Telecommunications Industry Association, to Joel Gurin, Chief, Consumer & Governmental Affairs Bureau, and Ruth Milkman, Wireless Telecommunications Bureau, CG Docket No. 10-213, WT Docket No. 96-198, CG Docket No. 10-145 (filed April 1, 2011). Comments and reply comments were due on April 13, and May 13, 2011, respectively.

3. Congress mandated that the Commission promulgate regulations as necessary to implement section 104 of the CVAA within one year of the legislation's date of enactment—October 8, 2011. See 47 U.S.C. 617(e)(1). Given this deadline, a thirty day extension is not feasible. In light of the number and complexity of the issues in this proceeding, however, we will grant ten-day extensions of the comment and reply comment deadlines.

4. It is the policy of the Commission that extensions of time are not routinely granted. See 47 CFR 1.46(a). In the instant case, however, we find that providing a limited extension will serve the public interest by allowing parties to discuss the complex issues at stake and develop consensus approaches where possible. Accordingly, we are extending the deadline for all comments and reply comments to April 25, and May 23, 2011, respectively.

Ordering Clauses

5. It is ordered that, pursuant to section 4(i) of the Communications Act of 1934, as amended, 47 U.S.C. 154(i), and section 1.46 of the Commission's rules, 47 CFR 1.46, the joint request of the American Foundation for the Blind, Consumer Electronics Association, Information Technology Industry Council, and Telecommunications Industry Association, filed on April 1, 2011, is granted to the extent described herein, and the deadline for filing comments in response to the Notice of Proposed Rulemaking is extended to April 25, 2011, and the deadline for filing reply comments is extended to May 23, 2011.

6. This action is taken under delegated authority pursuant to sections 0.131 and 0.331 of the Commission's rules, 47 CFR 0.131, 0.331.

Federal Communications Commission.
Jane Jackson,
Associate Chief, Wireless Telecommunications Bureau.

[FR Doc. 2011-8751 Filed 4-11-11; 8:45 am]

BILLING CODE 6712-01-P